DEPARTMENT OF THE INTERIOR

National Park Service

National Register of Historic Places; Notification of Pending Nominations and Related Actions

Nominations for the following properties being considered for listing or related actions in the National Register were received by the National Park Service before May 26, 2007. Pursuant to section 60.13 of 36 CFR Part 60 written comments concerning the significance of these properties under the National Register criteria for evaluation may be forwarded by United States Postal Service, to the National Register of Historic Places, National Park Service, 1849 C St., NW., 2280, Washington, DC 20240; by all other carriers, National Register of Historic Places, National Park Service,1201 Eye St., NW., 8th floor, Washington DC 20005; or by fax, 202-371-6447. Written or faxed comments should be submitted by June 25, 2007.

J. Paul Loether,
Chief, National Register of Historic Places/National Historic Landmarks Program.

CALIFORNIA

Los Angeles County

Roosevelt Building,

727 W. Seventh St., Los Angeles, 07000636

Santa Clara County

Highway 152 Tree Row, CA 152, Gilroy, 07000635

DISTRICT OF COLUMBIA

District of Columbia

Acacia Mutual Life Company Building, 320 First St., NW., Washington, 07000642

Central Heating Plant, 325 13th St., SW., Washington, 07000637

Railroad Retirement Board Building, 330 C St., SW., Washington, 07000638

Social Security Administration Building, 330 Independence Ave., SW., Washington, 07000639

U.S. Courthouse—District of Columbia, 333 Constitution Ave., NW., Washington, 07000640

U.S. Department of Agriculture South Building, 14th St. and Independence Ave., SW., Washington, 07000643

U.S. Public Health Service Building, 1951 Constitution Ave., NW., Washington, 07000641

ILLINOIS

Champaign County

Solon, Francis and Abbie, House, 503 South State St., Champaign, 07000644

MINNESOTA

Ramsey County

Commerce Building, 10 E. Fourth St., St. Paul, 07000645

MISSISSIPPI

Hinds County

Lorena Dulling School, 622 Dulling Ave., Jackson, 07000650

Lowndes County

Mt. Pleasant Methodist Church, 2382 Wright Rd., Caledonia, 07000649

Tate County

McGehee Plantation, 950 Ed Nelson Dr., Senatobia, 07000648

MISSOURI

Jackson County

Howard Neighborhood Historic District, (Lee's Summit, Missouri MPS) Roughly bounded by SE 5th St., SE Green St., SE 7th St., and SE Miller St., Lee's Summit, 07000651

Jasper County

Jopin Supply Company, 228 S. Joplin Ave., Joplin, 07000652

St. Louis Independent City

Hempstead School, (St. Louis Public Schools of William B. Ittner MPS), 5872 Minerva Ave., St. Louis (Independent City), 07000653

MONTANA

Missoula County

Missoula Downtown Historic District, Roughly bounded by Northern Pacific RR, Clak Fork R, Little McCormick Park and Madison St., Missoula, 07000647

NEBRASKA

Cherry County

Dry Valley Church and Cemetery, Address Restricted, Mullen, 07000660

Custer County

Brenizer Library, 430 W. Center Ave., Merna, 07000654

Kellenbarger, Benjamin and Mary, House, 451 W. Center Ave., Merna, 07000659

Douglas County

Swartz Printing Company Building, 714 S. 15th St., Omaha, 07000658

Lancaster County

Lewis—Syford House, 700 N. 16th St., Lincoln, 07000657

Platte County

Lincoln Highway—Duncan West, (Lincoln Highway in Nebraska MPS AD) North Blvd. in Duncan, rural 145th St., Village of Duncan and Butler Township, 07000656

Lincoln Highway—Gardiner Station, (Lincoln Highway in Nebraska MPS) 115th St. bet 340th and 355th Ave., Butler Township, 07000655

NEW YORK

Dutchess County

Hoffman House, (Poughkeepsie MRA) N. Water St., Poughkeepsie, 07000669

TENNESSEE

De Kalb County

Foster, Susie, Log House, 810 College St., Smithville, 07000665

Henderson County

Montgomery High School, Montgomery Ave., Lexington, 07000662

Rutherford County

Elmwood (Boundary Increase), (Historic Family Farms in Middle Tennessee MPS) 5722 Old Nashville Hwy., Murfreesboro, 07000664

Sevier County

First Methodist Church, Gatlinburg, 742 Parkway, Gatlinburg, 07000661

Williamson County

Triangle School, (Williamson County MRA) Fairview Blvd., Fairview, 07000663

UTAH

Utah County

Payson Historic District, Roughly bounded by 500 North, 300 East, 500 South, 400 West, Payson, 07000666

Wasatch County

Wilson House and Farmstead, 94 E. 250 North, Midway, 07000667

WISCONSIN

Price County

Fifield Fire Lookout Tower, 5 mi. E of Fifield, WI 70, Fifield, 07000668

In the interest of preservation the comment period for the following resource has been reduced to 3 (three) days:

MICHIGAN

Genesee County

First National Bank and Trust Company Building, 460 South Saginaw St., Flint, 07000646

A request for Removal has been made for the following resources:

NEBRASKA

Thomas County

Thomas County Courthouse (Courthouses of Nebraska MPS) 503 Main St., Thedford, 90000971

NORTH CAROLINA

Wake County

Midway Plantation, E of Raleigh on U.S. 64, Raleigh vicinity, 70000473

[FR Doc. E7-11066 Filed 6-7-07; 8:45 am]

BILLING CODE 4312-51-P